DEPARTMENT OF TRANSPORTATION

Federal Aviation Administration

14 CFR Part 71

[Docket No. FAA-2003-15789; Airspace Docket No. 03-AEA-09]

Amendment to Class E Airspace; Charlottesville, VA

AGENCY: Federal Aviation Administration (FAA), DOT.

ACTION: Final rule; correction.

SUMMARY: This action corrects an error and omission in the description of the Charlottesville, VA Class E-5 designated airspace that was published in a final rule on February 20, 2001 (66 FR 10812), Airspace Docket No. 00-AEA-11. The Final Rule amended the description of the Class E airspace for Charlottesville, VA.

DATES: Effective November 6, 2003.

FOR FURTHER INFORMATION CONTACT: Mr. Francis Jordan, Airspace Specialist, Airspace Branch, AEA-520, Air Traffic Division, Eastern Region, Federal Aviation Administration, 1 Aviation Plaza, Jamaica, New York 11434-4809, telephone: (718) 553-4521.

SUPPLEMENTARY INFORMATION:

Background

Airspace Docket No. 00-AEA-11, published in the Federal Register on February 20, 2001 (66 FR 10812), amended the description of the Class E airspace area at Charlottesville-Albemarle Airport, Charlottesville, VA. The final rule established Class E airspace for the University of Virginia Medical Center Heliport as the primary airport for the Class E description.

Need for Correction

The final rule for the Class E airspace at Charlottesville omitted the description for the Charlottesville-Albemarle Airport. This error was discovered in the description of the airspace as published. This action corrects that error.

List of Subjects in 14 CFR Part 71

Airspace, Incorporation by reference, Navigation (air).

PART 71—DESIGNATION OF CLASS A, CLASS B, CLASS C, CLASS D, AND CLASS E AIRSPACE AREAS; AIRWAYS; ROUTES; AND REPORTING POINTS

Accordingly, pursuant to the authority delegated to me, the legal description for the Class E-5 airspace area at Charlottesville, VA, as published in the Federal Register on February 20, 2001 (66 FR 10812) and incorporated by reference in 14 CFR 71.1 of the Federal Aviation Administration Order 7400.9K, Airspace Designations and Reporting Points, dated August 30, 2002 and effective September 16, 2002, is corrected by making the following amendment:

1. The authority citation for part 71 continues to read as follows:

Authority: 49 U.S.C. 106(g); 40103, 40113, 40120; E.O. 10854, 24 FR 9565, 3 CFR 1959—1963 Comp., p. 389.

§ 71.1 [Corrected]

2. The incorporation by reference in 14 CFR 71.1 of the Federal Aviation Administration Order 7400.9L, Airspace Designations and Reporting Points, dated September 16, 2003, and effective September 15, 2004, is corrected as follows:

Paragraph 6005 Class E airspace areas extending upward from 700 feet or more above the surface of the earth

* * * * *

AEA VA E5 Charlottesville, VA [Corrected]

Charlottesville-Albemarle Airport, VA

(Lat. 38°08′19″ N., long. 78°27′10″ W.)

University of Virginia Medical Center Heliport

(Lat. 38°01′18″ N., long. 78°30′30″ W.)

Azalea Park NDB

(Lat. 38°00′37″ N., long. 78°31′05″ W.)

That airspace extending upward from 700 feet above the surface within a 6.5-mile radius of Charlottesville-Albemarle airport and within 4 miles each side of the Charlottesville-Albemarle Airport ILS localizer southwest course extending from the 6.5-mile radius to 9.6 miles southwest of the Azalea Park NDB and within a 6-mile radius of the University of Virginia Medical Center Heliport.

* * * * *

Issued in Jamaica, New York, on September 16, 2003.
John G. McCartney,
Assistant Manager, Air Traffic Division, Eastern Region.

[FR Doc. 03-27899 Filed 11-5-03; 8:45 am]

BILLING CODE 4910-13-M